DEPARTMENT OF ENERGY

Federal Energy Regulatory Commission

Combined Notice of Filings #1

Take notice that the Commission received the following electric corporate filings:

Docket Numbers: EC24-102-000.

Applicants: Envoy Solar, LLC, BCD 2024 Fund 5 Lessee, LLC.

Description: Joint Application for Authorization Under Section 203 of the Federal Power Act of Envoy Solar, LLC, et al.

Filed Date: 7/12/24.

Accession Number: 20240712-5210.

Comment Date: 5 p.m. ET 8/2/24.

Docket Numbers: EC24-103-000.

Applicants: Caithness Long Island, LLC, Moxie Freedom LLC, Caithness Energy, LLC.

Description: Joint Application for Authorization Under Section 203 of the Federal Power Act of Caithness Long Island, LLC, et al.

Filed Date: 7/15/24.

Accession Number: 20240715-5237.

Comment Date: 5 p.m. ET 8/5/24.

Take notice that the Commission received the following electric rate filings:

Docket Numbers: ER10-2881-040; ER10-2882-040; ER10-2884-038; ER10-2883-038; ER16-2509-009; ER17-2400-010; ER17-2401-010; ER17-2403-010; ER17-2404-010.

Applicants: SP Sandhills Solar, LLC, SP Pawpaw Solar, LLC , SP Decatur Parkway Solar, LLC, SP Butler Solar, LLC, Rutherford Farm, LLC, Mississippi Power Company, Georgia Power Company, Southern Power Company, Alabama Power Company.

Description: Amendment to June 30, 2023, Triennial Market Power Analysis for Southeast Region of Alabama Power Company, et al.

Filed Date: 8/3/23.

Accession Number: 20230803-5133.

Comment Date: 5 p.m. ET 8/6/24.

Docket Numbers: ER11-4436-012; ER10-2472-012; ER10-2473-013.

Applicants: Cheyenne Light, Fuel and Power Company, Black Hills Wyoming, LLC, Black Hills Power, Inc.

Description: Notice of Change in Status of Black Hills Power, Inc., et al.

Filed Date: 7/15/24.

Accession Number: 20240715-5236.

Comment Date: 5 p.m. ET 8/5/24.

Docket Numbers: ER24-627-001.

Applicants: Mammoth North LLC.

Description: Compliance filing: PJM Schedule 2 Informational Filing to be effective N/A.

Filed Date: 7/15/24.

Accession Number: 20240715-5206.

Comment Date: 5 p.m. ET 8/5/24.

Docket Numbers: ER24-2183-001.

Applicants: Big Rock ESS Assets LLC.

Description: Tariff Amendment: Big Ross ESS Assets LLC Amended MBR Filing to be effective 8/3/2024.

Filed Date: 7/15/24.

Accession Number: 20240715-5217

Comment Date: 5 p.m. ET 8/5/24.

Docket Numbers: ER24-2525-000.

Applicants: RDAF Energy Solutions, LLC.

Description: Baseline eTariff Filing: 2024-07-16 RDAF Energy Solutions, LLC MBR Application to be effective 9/15/2024.

Filed Date: 7/16/24.

Accession Number: 20240716-5056

Comment Date: 5 p.m. ET 8/6/24.

Docket Numbers: ER24-2526-000.

Applicants: Public Service Company of Colorado.

Description: § 205(d) Rate Filing: 2024-07-16 TSGT—Final Rule Rating Auth—Ltr Agrmt—818 to be effective 9/15/2024.

Filed Date: 7/16/24.

Accession Number: 20240716-5063.

Comment Date: 5 p.m. ET 8/6/24.

Docket Numbers: ER24-2527-000.

Applicants: Arizona Public Service Company.

Description: Tariff Amendment: Service Agreement No. 389—Notice of Cancellation to be effective 9/15/2024.

Filed Date: 7/16/24.

Accession Number: 20240716-5078.

Comment Date: 5 p.m. ET 8/6/24.

Docket Numbers: ER24-2528-000.

Applicants: Constellation Mystic Power, LLC.

Description: Constellation Mystic Power, LLC requests waiver of certain deadlines required by Schedule 3A of the Mystic Cost of Service Agreement between Mystic, Constellation Energy Generation, LLC, and ISO-New England Inc.

Filed Date: 7/12/24.

Accession Number: 20240712-5214.

Comment Date: 5 p.m. ET 8/2/24.

Docket Numbers: ER24-2529-000.

Applicants: PJM Interconnection, LLC.

Description: § 205(d) Rate Filing: Revisions to Clean-Up Tariff, Schedules 1A, 7 and 8 to be effective 1/1/2021.

Filed Date: 7/16/24.

Accession Number: 20240716-5108.

Comment Date: 5 p.m. ET 8/6/24.

Docket Numbers: ER24-2530-000.

Applicants: Highland Solar Transco Interconnection LLC.

Description: Baseline eTariff Filing: Certificates of Concurrence to be effective 7/17/2024.

Filed Date: 7/16/24.

Accession Number: 20240716-5126.

Comment Date: 5 p.m. ET 8/6/24.

Take notice that the Commission received the following electric securities filings:

Docket Numbers: ES24-42-000.

Applicants: Duquesne Light Company.

Description: Amendment to 07/03/2024, Application Under Section 204 of the Federal Power Act for Authorization to Issue Securities of Duquesne Light Company.

Filed Date: 7/16/24.

Accession Number: 20240716-5127.

Comment Date: 5 p.m. ET 7/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 16, 2024.
Debbie-Anne A. Reese,
Acting Secretary.

[FR Doc. 2024-16076 Filed 7-22-24; 8:45 am]

BILLING CODE 6717-01-P